DEPARTMENT OF ENERGY

Biological and Environmental Research (BER); Federal Interagency Steering Committee on Multimedia Environmental Modeling

AGENCY: Office of Science; Office of Biological and Environmental Research (BER), Department of Energy, (DOE).

ACTION: Notice of open meeting.

SUMMARY: The annual public meeting of the Federal Interagency Steering Committee on Multimedia Environmental Modeling (ISCMEM) will convene to review progress by the ISCMEM working groups and to discuss initiatives for FY 2006.

DATES: August 16, 2005. Time: 9:30 a.m. to 4 p.m.

ADDRESSES: The American Geophysical Union (AGU) headquarters building, 2000 Florida Avenue, NW., Washington, DC 20009.

FOR FURTHER INFORMATION CONTACT: Inquiries and notice of intent to attend the meeting may be faxed or e-mailed to: Dr. Robert T. Anderson, ISCMEM Chair, Office of Biological and Environmental Research, SC-23.4/Germantown Building, U.S. Department of Energy, 1000 Independence Avenue, SW., Washington, DC 20585-1290. Tel: 301-903-5549. Fax: 301-903-4154. Todd.Anderson@science.doe.gov.

SUPPLEMENTARY INFORMATION: Background: On July 5, 2001, six Federal agencies entered into a Memorandum of Understanding (MOU) on research and development of multimedia environmental modeling. (For a copy of the MOU with addendums, and details of the activities please see http://www.ISCMEM.Org.) In 2002-2005, three additional Federal Agencies joined the interagency cooperative project. The MOU establishes a framework for facilitating cooperation and coordination among the following agencies (the specific research organization within the agency is in parentheses): U.S. Army Corps of Engineers (Engineer Research and Development Center); U.S. Department of Agriculture (Agricultural Research Service); U.S. Department of Agriculture (Natural Resources Conservation Service); U.S. Department of Energy (Office of Research and Development); U.S. Environmental Protection Agency; U.S. Geological Survey; U.S. National Oceanographic and Atmosphere Administration; and U.S. Nuclear Regulatory Commission (Office of Nuclear Regulatory Research); U.S. Bureau of Reclamation. These agencies are cooperating and coordinating in research and development (R&D) of multimedia environmental models, software and related databases, including development, enhancements, applications and assessments of site specific, generic, and process-oriented multimedia environmental models as they pertain to human and environmental health risk assessment. Specifically, the MOU supports collaboration and the exchange of technical information in support of multimedia environmental modeling focusing on environmental risk assessments, including developments/enhancements of models and mold frameworks or infrastructure and advancement of related technical activities, such as considering uncertainty and model application procedures.

Purpose of the Public Meeting: The annual public meeting provides an opportunity for the scientific community, other Federal and State agencies, and the public to be briefed on the progress of the MOU working groups and their initiatives for the upcoming year, and to discuss technological advancements in multimedia environmental modeling.

Proposed Agenda: The ISCMEM Chair will open the meeting with a brief overview of the goals of the MOU and the activities of ISCMEM. The four MOU working groups, Software System Design and Implementation, Uncertainty and Parameter Estimation, Subsurface Reactive Transport Modeling, and Distributed Watershed/ Water-Quality Modeling, will then report on their progress during the year. A series of technical presentations will focus on topics related to working group(s) efforts followed by ISCMEM steering committee business discussions. A detailed agenda with presentation titles and speakers will be posted on the MOU public Web site: http://www.ISCMEM.Org.

Meeting Access: The headquarters of the American Geophysical Union (AGU) is located at 2000 Florida Avenue, NW., Washington, DC 20009. The most convenient transportation to the meeting venue is via Metro. Take Metro to the Dupont Circle Metro stop on the Red Line. Upon exiting the Metro station proceed Northwest on Connecticut Avenue, NW., for about 3 blocks. Turn right onto Florida Avenue for about ½ block. AGU building is on the right. Please inform the security personnel upon entering the building that you are attending the public meeting on multimedia environmental modeling. The meeting room is on the ground floor to your left as you enter the building.

Robert T. Anderson,
Chair, Federal Interagency Steering Committee on Multimedia Environmental Modeling.

[FR Doc. 05-13942 Filed 7-14-05; 8:45 am]

BILLING CODE 6450-01-P